DEPARTMENT OF HEALTH AND HUMAN SERVICES

Health Resources and Services Administration

Agency Information Collection Activities: Proposed Collection: Public Comment Request; National Hospital Organ Donation Campaign Activity

AGENCY: Health Resources and Services Administration (HRSA), Department of Health and Human Services.

ACTION: Notice.

SUMMARY: In compliance with the requirement for opportunity for public comment on proposed data collection projects (Section 3506(c)(2)(A) of the Paperwork Reduction Act of 1995), HRSA announces plans to submit an Information Collection Request (ICR), described below, to the Office of Management and Budget (OMB). Prior to submitting the ICR to OMB, HRSA seeks comments from the public regarding the burden estimate, below, or any other aspect of the ICR.

DATES: Comments on this ICR must be received no later than January 13, 2017.

ADDRESSES: Submit your comments to paperwork@hrsa.gov or mail the HRSA Information Collection Clearance Officer, Room 14N-39, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: National Hospital Organ Donation Campaign Activity Scorecard OMB No. 0915-0373, Revision

Abstract: HRSA's Hospital Campaign, a special initiative of the Workplace Partnership for Life program, enlists the help of hospitals nationwide to increase the number of registered organ, eye, and tissue donors by hosting education and registry events in their hospitals and communities. The Activity Scorecard provides activity ideas to participating hospitals and assigns points to each activity. Hospitals that earn a certain number of points annually are recognized by HRSA and the campaign's national partners.

Need and Proposed Use of the Information: There is a substantial imbalance in the U.S. between the number of people whose life depends on an organ transplant (currently about 120,000) and the annual number of organ donors (approximately 14,000 living and deceased donors). In response to the need for increased donation, HRSA conducts public outreach initiatives to encourage the American public to enroll in their state donor registry as future organ donors. As part of this initiative, HRSA supports this National Hospital Organ Donation Campaign to involve hospitals throughout the nation as partners in the national effort to educate their staff and communities about the urgent need for donors and encourage donor registry enrollments.

The activity scorecard serves two key campaign functions: (1) It motivates and facilitates hospitals' participation in this campaign, and (2) it provides the basis for rewarding hospitals for their accomplishments. In providing more than 40 actionable donation promotion strategies hospitals can choose to implement, it eases the process of planning and participation for hospital teams. In addition, by attaching point levels to each activity, HRSA uses the information collected to recognize hospital achievements at bronze, silver, gold, and platinum point equivalents and provides certificates for all hospitals achieving any recognition level.

A list of recognized hospitals is shared with all campaign participants during monthly webinars, in campaign e-newsletters, and in communication pieces sent out by the campaign's national partners, which include the American Hospital Association and the American Society of Transplantation. In addition, local donation organizations and participating state hospital associations use the results to pay tribute to HRSA-recognized hospitals in their local service areas. The information collected also helps HRSA identify best practices that are then shared with all hospital partners on the monthly webinars. This version of the scorecard contains two new opportunities for hospitals to earn points: A point is awarded for each donor registration a hospital motivates and points are awarded for reaching the hospital's donor registration goal.

Likely Respondents: Hospital development and public relations staff of organ procurement and other donation organizations, hospital staff such as nurses or public relations/communications professionals, and volunteers that work with the hospitals on organ donation initiatives.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours
Form name | Number of respondents | Number of responses per respondent | Total responses | Average burden per response (in hours) | Total burden hours
Activity Scorecard (electronic PDF) | 1,000 | 1 | 1,000 | .125 | 125
Total | 1,000 |  | 1,000 |  | 125

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Jason E. Bennett,
Director, Division of the Executive Secretariat.

[FR Doc. 2016-27219 Filed 11-10-16; 8:45 am]

BILLING CODE 4165-15-P